DEPARTMENT OF TRANSPORTATION

Saint Lawrence Seaway Development Corporation

33 CFR Part 402

[Docket No. SLSDC 2009-0003]

RIN 2135-AA29

Tariff of Tolls

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges levied by the SLSMC in Canada. The Tariff of Tolls became effective in Canada in 2008. For consistency, because these are, under international agreement, joint regulations, and to avoid confusion among users of the Seaway, the SLSDC finds that there is good cause to make this U.S. version of the amendments effective upon publication. (See Supplementary Information.)

DATES: This rule is effective on March 12, 2009.

FOR FURTHER INFORMATION CONTACT: Carrie Mann Lavigne, Chief Counsel, Saint Lawrence Seaway Development Corporation, 180 Andrews Street, Massena, New York 13662; 315-764-3200.

SUPPLEMENTARY INFORMATION: The Saint Lawrence Seaway Development Corporation (SLSDC) and the St. Lawrence Seaway Management Corporation (SLSMC) of Canada, under international agreement, jointly publish and presently administer the St. Lawrence Seaway Tariff of Tolls (Schedule of Fees and Charges in Canada) in their respective jurisdictions. The Tariff sets forth the level of tolls assessed on all commodities and vessels transiting the facilities operated by the SLSDC and the SLSMC. The SLSDC is revising 33 CFR 402.8, “Schedule of tolls”, to reflect the fees and charges levied by the SLSMC in Canada since 2008. The changes affect the tolls for commercial vessels and are applicable only in Canada. The collection of tolls by the SLSDC on commercial vessels transiting the U.S. locks is waived by law (33 U.S.C. 988a(a)). Accordingly, no notice or comment is necessary on these amendments.

Regulatory Notices

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Regulatory Evaluation

This regulation involves a foreign affairs function of the United States and therefore Executive Order 12866 does not apply and evaluation under the Department of Transportation's Regulatory Policies and Procedures is not required.

Regulatory Flexibility Act Determination

I certify this regulation will not have a significant economic impact on a substantial number of small entities. The St. Lawrence Seaway Tariff of Tolls primarily relate to commercial users of the Seaway, the vast majority of whom are foreign vessel operators. Therefore, any resulting costs will be borne mostly by foreign vessels.

Environmental Impact

This regulation does not require an environmental impact statement under the National Environmental Policy Act (49 U.S.C. 4321, et reg.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 402

Vessels, Waterways.

Accordingly, the Saint Lawrence Seaway Development Corporation is amending 33 CFR Part 402, Tariff of Tolls, as follows:

PART 402—TARIFF OF TOLLS

1. The authority citation for Part 402 continues to read as follows:

Authority: 33 U.S.C. 983(a), 984(a)(4) and 988, as amended; 49 CFR 1.52.

2. Section 402.3 is amended by:

a. Removing paragraphs (k) and (l);

b. Removing the first-level paragraph designations from paragraphs (a) through (j) and (m) through (p); and

c. Adding the following new definitions in alphabetical order to read as follows:

§ 402.3 Interpretation.

* * * * *

Carrier means any company, or its representative, engaged in physically moving a cargo between an origin and a destination.

Commodity means cargo that has been defined as a commodity in the Manager's then current publicly announced commodity codes.

Closing Date means in respect of a year, the first date in such year after the opening date on which both the Montreal-Lake Ontario portion and the Welland Canal portion of the Seaway are closed for vessel traffic.

* * * * *

Great Lakes/St. Lawrence Seaway System means all ports in the Great Lakes and the St. Lawrence River.

Incremental volume means the portion of tonnage shipped through the Seaway by a specific shipper/receiver in a given season, above the pre-approved maximum tonnage realized by that specific shipper/receiver over the previous five (5) navigation seasons.

* * * * *

Maximum volume means the highest total annual tonnage of a specific commodity that a shipper/receiver has shipped through the Seaway over the previous 5 years.

* * * * *

Navigation season means the period commencing on an opening date and ending on the next closing date.

New Business means:

(1) Containerized cargo moved by ship in the Seaway at any time in a navigation season;

(2) A commodity/origin/destination combination in which the commodity moved by ship in the Seaway at any time in a navigation season:

(i) Originating at a point inside Canada or the United States of America or at a country outside Canada or the United States of America, provided that such commodity has not originated from such point or country, as the case may be, at any time in any of the five consecutive navigation seasons immediately preceding the then current navigation season;

(ii) Destined to a point inside Canada or the United States of America or a country outside Canada or the United States of America, provided that such commodity has not been destined to such point or country, as the case may be, at any time in any of the five consecutive navigation seasons immediately preceding the then current navigation season;

(iii) Originating at a point inside Canada or the United States of America or a country outside Canada or the United States of America and destined to a point inside Canada or the United States of America or a country outside Canada or the United States of America, provided that such Commodity was previously moved, in lieu of movement by ship, by any mode of transportation other than by ship at all times in the five consecutive navigation seasons immediately preceding the then current navigation season; or

(iv) That has not moved through either section of the Seaway in any of the five consecutive navigation seasons immediately preceding the then current navigation season, in a volume exceeding 10,000 metric tons.

Opening date means, in respect of any year, the earliest date in such year on which either the Montreal-Lake Ontario portion or the Welland Canal portion of the Seaway is opened for vessel traffic, provided however that if such date is prior to April 1 the opening date in such year shall be deemed to be the 1st day of April in such year.

* * * * *

Section of the Seaway means either the Montreal-Lake Ontario portion of the Seaway or the Welland Canal portion of the Seaway.

Shipper/receiver means any company who owns or buys the cargo that is being shipped through the Seaway.

* * * * *

Volume rebate means a percentage reduction, as part of an initiative program, offered on applicable cargo tolls for shipments of a specific commodity above and beyond a pre-approved historical maximum volume.

3. Section 402.4 is amended by revising paragraph (a), removing paragraphs (d), (e), and (f), and adding a new paragraph (d) to read as follows:

§ 402.4 Tolls

(a) Every vessel entering, passing through or leaving the Seaway shall pay a toll that is the sum of each applicable charge in § 402.10. Each charge is calculated based on the description set out in column 1 of § 402.10 and the rate set out in column 2 or 3.

* * * * *

(d) The two (2) incentive programs, New Business and Volume Rebate, are exclusive and cannot be applied at the same time on the same cargo movement.

§ 402.9 [Redesignated as § 402.11]

4. Section 402.9 is redesignated as § 402.11 and the heading is revised to read as follows:

§ 402.11 Operational surcharges—no postponements.

* * * * *

§ 402.10 [Redesignated as § 402.12]

5. Section 402.10 is redesignated as § 402.12 and the heading is revised to read as follows:

§ 402.12 Operational surcharges—after postponements.

* * * * *

§ 402.7 [Redesignated as § 402.9]

6. Section 402.7 is redesignated as § 402.9 and the heading is revised to read as follows:

§ 402.9 Coming into force.

§ 402.5 [Redesignated as § 402.7]

7. Section 402.5 is redesignated as § 402.7 and the heading is revised to read as follows:

§ 402.7 Description and weight of cargo.

* * * * *

8. A new § 402.5 is added to read as follows:

§ 402.5 New business incentive program

(a) To be eligible for the rebate applicable under the New Business Incentive Program, a carrier must submit an application to the Manager for the proposed commodity/origin/destination combination to be approved and accepted under the rules of the New Business Incentive Program promulgated and administered from time to time by the Manager.

(b) Containerized cargo, whatever the origin or destination, moved by ship in the Seaway at any time in the navigation seasons commencing in 2008, 2009, 2010, 2011 and 2012 qualifies as New Business.

(c) A commodity/origin/destination combination that qualifies as New Business after the 30th day of September in any navigation season continues to qualify as New Business in the two consecutive navigation seasons; and

(d) A commodity/origin/destination combination that qualifies as New Business after the 30th day of September in any navigation season continues to qualify as New Business in the three consecutive navigation seasons immediately following the then current navigation season.

§ 402.8 [Redesignated as § 402.10]

9. Section 402.8 is redesignated as § 402.10 and revised to read as follows:

§ 402.10 Schedule of tolls.

Item/description of charges | Rate ($) Montreal to or from Lake Ontario (5 locks) | Rate ($) Welland Canal—Lake Ontario to or from Lake Erie (8 locks)
Column 1 | Column 2 | Column 3
1. Subject to item 3, for complete transit of the Seaway, a composite toll, comprising:
(1) a charge per gross registered ton of the ship, applicable whether the ship is wholly or partially laden, or is in ballast, and the gross registered tonnage being calculated according to prescribed rules for measurement or under the International Convention on Tonnage Measurement of Ships, 1969, as amended from time to time ¹ | 0.0966 | 0.1546.
(2) a charge per metric ton of cargo as certified on the ship's manifest or other document, as follows:
(a) bulk cargo | 1.0012 | 0.6834.
(b) general cargo | 2.4124 | 1.0936.
(c) steel slab | 2.1833 | 0.7829.
(d) containerized cargo | 1.0012 | 0.6834.
(e) government aid cargo | n/a | n/a.
(f) grain | 0.6151 | 0.6834.
(g) coal | 0.6151 | 0.6834.
(3) a charge per passenger per lock | 1.5000 | 1.5000.
(4) a lockage charge per Gross Registered Ton of the vessel, as defined in item 1(1), applicable whether the ship is wholly or partially laden, or is in ballast, for transit of the Welland Canal in either direction by cargo ships | n/a | 0.2575.
Up to a maximum charge per vessel | n/a | 3,600.00.
2. Subject to item 3, for partial transit of the Seaway | 20 per cent per lock of the applicable charge under items 1(1) and (2) plus the applicable charge under items 1(3) and (4) | 13 per cent per lock of the applicable charge under items 1(1) and (2) plus the applicable charge under items 1(3) and (4).
3. Minimum charge per vessel per lock transited for full or partial transit of the Seaway | 25.00 | 25.00.
4. A charge per pleasure craft per lock transited for full or partial transit of the Seaway, including applicable federal taxes ² | 25.00 ³ | 25.00.
6. Under the New Business Initiative Program, for cargo accepted as New Business, a percentage rebate on the applicable cargo charges for the approved period | 20% | 20%.
7. Under the Volume Rebate Incentive program, a retroactive percentage rebate on cargo tolls on the incremental volume calculated based on the pre-approved maximum volume | 10% | 10%.
¹ Or under the US GRT for ships prescribed prior to 2002.
² The applicable charge at the Saint Lawrence Seaway Development Corporation's locks (Eisenhower, Snell) for pleasure craft is $30 U.S. or $30 Canadian per lock. The applicable charge under item 3 at the Saint Lawrence Seaway Development Corporation's locks (Eisenhower, Snell) will be collected in U.S. dollars. The other amounts are in Canadian dollars and are for the Canadian share of tolls. The collection of the U.S. portion of tolls for commercial vessels is waived by law (33 U.S.C. 998a(a)).
³ Pleasure craft rates-subject to change in subsequent years.

§ 402.6 [Redesignated as § 402.8]

10. Section 402.6 is redesignated as § 402.8 and amended by revising the heading and paragraphs (a) and (b) to read as follows:

§ 402.8 Post-clearance date operational surcharges.

(a) Subject to paragraph (b) of this section, a vessel that reports for its final transit of the Seaway from a place set out in column 1 of § 402.11 within a period after the clearance date established by the Manager and the Corporation set out in column 2 of 402.11 shall pay operational surcharges in the amount set out in column 3 of 402.11, prorated on a per-lock basis.

(b) If surcharges are postponed for operational or climatic reasons, a vessel that reports for its final transit of the Seaway from a place set out in column 1 within a period after the clearance date established by the Manager and the Corporation set out in column 2 shall pay operational surcharges in the amount set out in column 3, prorated on a per-lock basis.

* * * * *

11. A new § 402.6 is added to read as follows:

§ 402.6 Volume Rebate Incentive program

(a) To be eligible to the Volume Rebate Incentive program:

(1) A shipper/receiver in the Great lakes/St. Lawrence Seaway System must submit to the Manager for approval, before June 30th of every season, the commodity, as defined under the Manager's commodity classification, for which a Volume Rebate is sought, the origin or destination of the commodity, and a proof of the maximum volume of the commodity the shipper/receiver has shipped over the last 5 years from that origin or to that destination.

(2) The shipper/receiver must already move the commodity, as defined under the Manager's commodity classification, through the Seaway at a minimum of 100,000 tonnes per season for the past five navigation seasons.

(b) Once approved by the Manager, the maximum volume will become the basis on which to calculate the incremental volume.

(c) The Volume Rebate Incentive program is not accessible at the end of the navigation season without a pre-approved maximum volume within the set deadline.

(d) The same cargo volume can only be used by one shipper/receiver.

(e) For the Volume Rebate to be applicable, the total volume of the commodity shipped through the Seaway must also increase during the navigation season.

Issued at Washington, DC on March 2, 2009.
Saint Lawrence Seaway Development Corporation.
Collister Johnson, Jr.,
Administrator.

[FR Doc. E9-4918 Filed 3-11-09; 8:45 am]

BILLING CODE 4910-61-P